DEPARTMENT OF STATE

[Public Notice 3904]

Bureau of Educational and Cultural Affairs Request for Grant Proposals: Small Grants Competition for Women's Political Leadership, Girls' Education, Disability Issues, and Women-Led Small Business Development, for Afghanistan, North Africa, the Arabian Peninsula States of the Middle East, and Latin America and the Caribbean

SUMMARY: The Office of Citizen Exchanges of the Bureau of Educational and Cultural Affairs announces a Small Grants Competition designed to promote Women's Political Leadership, Girls' Education, Disability Issues, and Women-Led Small Business Development. Public and private non-profit organizations meeting the provisions described in Internal Revenue Code section 26 USC 501(c)(3) may submit proposals to conduct exchanges for a single country from the following: Afghanistan, North Africa, the Arabian Peninsula States of the Middle East, and Latin America & the Caribbean. The goal of this initiative is to provide support for grassroots organizations or local chapters of national groups to expand the scope of their overseas work and build or strengthen linkages with partner organizations in other countries. Approximately $500,000 has been allotted for this competition, with at least $250,000 projected for Afghanistan and countries in North Africa and the Arabian Peninsula States. “(Afghanistan is included in this solicitation, contingent on security and feasibility of programming.)” Grant awards will not exceed $60,000, with most grants ranging from $25,000 to $50,000.

Overview

The Office of Citizen Exchanges, Bureau of Educational and Cultural Affairs (ECA) announces a small grants competition for U.S. nonprofit, nongovernmental organizations and institutions to implement international exchange programs, in partnership with one or more local organization(s) in one of the countries listed below. Each Small Grant award is meant to fund a single-country project, with the exception of projects for Afghanistan*. The following are this year's priority themes: (1) Political Leadership for Women, (2) Girls' Education, (3) Disability Issues, or (4) Women-Led Small Business Development. Project activities may take place in the partner's country overseas, or in both the U.S. and the partner country.

* Two-country projects with Afghanistan and one other Middle Eastern or North African country are eligible. These projects should recruit an equal number of participants from each country. Alternatively, single-country projects for Afghanistan may take place in the U.S., Afghanistan and/or a third country.

With the exception of Women-Led Small Business Development, eligible countries for each theme are:

Afghanistan (included in this solicitation, contingent on security and feasibility of programming.)

Latin America: Bolivia, Brazil, Colombia, Ecuador,Paraguay, Peru, Uruguay, Venezuela, Belize, Costa Rica, El Salvador, Guatemala, Honduras, Nicaragua, Panama, Mexico; Caribbean: The Bahamas, Barbados, Dominican Republic,Haiti, Jamaica, Trinidad.

North Africa: Algeria, Morocco, Tunisia.

Arabian Peninsula States of the Middle East: Bahrain, Kuwait, Oman, Qatar, Saudi Arabia, United Arab Emirates,Yemen.

Proposals for Women-Led Small Business Development may include Afghanistan, and the countries listed under North Africa and the Arabian Peninsula States of the Middle East.

ECA seeks organizations that are interested in expanding or developing grassroots training programs and international exchanges in Afghanistan, North Africa, Latin America & the Caribbean, and the Arabian Peninsula States of the Middle East. Eligibility: U.S. nonprofit 501(c)3 organizations that have not received prior funding directly from ECA; and organizations that have received prior ECA funding, but only under previous Small Grants competitions, are eligible to apply. All proposals will receive equal consideration. Foreign organizations may submit a joint proposal with the U.S. partner as the principal applicant.

Organizations planning to submit a proposal are strongly encouraged to contact the program office for a consultation. Before calling, applicants should be ready to discuss a concrete concept specific to the guidelines supplied in this request for grant proposals (RFGP).

For Latin America & the Caribbean: Laverne Johnson, ljohnson@pd.state.gov, Tel: (202) 619-5337.

For North Africa, the Arabian Peninsula States of the Middle East and Afghanistan: Susan Krause, skrause@pd.state.gov, Tel: (202) 619-5320.

Guidelines

To be considered for a grant award in this competition, the proposed project must address one of the themes described in this RFGP for a single country from the above list (except as noted above for Afghanistan).

Applicants should describe a clear and convincing plan for carrying out project components that will fulfill the expected outcomes stated in the proposal narrative. Proposals should address the REVIEW CRITERIA outlined below.

Projects funded under this competition should enhance partnerships among American and foreign organizations, reach the widest possible audiences, provide hands-on activities and training sessions with practical materials in the local language for use during the project and after the grant period is over, and achieve permanent and sustainable results.

This program is not academic in nature; proposals should be creative and innovative, combining elements of skill enrichment, experiential learning and exposure to American life and culture. The activities should also provide Americans an opportunity to experience the culture of the partner country. Cultural programming may include activities or events hosted by local institutions and home stays with community members. Orientation sessions must be included for all foreign and American program participants.

The majority of funding should be directed toward participant program costs.

Unless otherwise specified below, project components may include, but are not limited to, training of trainers(TOT), internships & job shadowing, workshops, site visits, consultations, and short-term training. Distance learning techniques using appropriate technology and activities meant to bridge the digital divide are also encouraged.

Partner organizations should be identified in the proposal, with project plans developed collaboratively by both the American and foreign organization(s). Applicants that have not yet identified local partners, but whose proposals show significant regional and thematic expertise, are also eligible to apply.

The proposal narrative (excluding resumes, sample materials, the budget & budget notes) should be 3-5 pages and double-spaced. The budget should be presented on one page. Budget notes should be included. The proposed start date should not commence before June 1, 2002, and may be subject to change.

Women's Political Leadership

Proposals should focus on promoting women's political leadership by (1) strengthening the capacity of grassroots women's organizations in developing the skills of current and future women political leaders, and (2) compiling a repertoire of practical materials in the local language for use in workshops, mock elections and campaigns, educational sessions, or other activities. Proposals must indicate a practical knowledge of the political and legislative environment in the partner country. Projects may include, but are not limited to, components listed above and may also include the following: “Workshops for Political Leaders,” “Women's Political Awareness Campaigns” and “NGO Management,” as described below.

Workshops for Political Leaders might include such topics as public speaking, message development, leadership, campaign management, accountability and constituencies, consensus building, lobbying, surveying, polling, advocacy, voter outreach, networking, working with the media, and fundraising. Mock campaigns and elections are encouraged.

Women's Political Awareness Campaigns should educate women on the political process and get them actively involved in the political arena. Awareness campaigns should be jointly conducted with partner organizations, and should reach the widest possible audience in large and small cities, towns and villages.

NGO Management Part of the program design may also include workshops on NGO management and capacity building, for NGOs whose work is linked to emerging or enhanced women's political leadership. NGO workshop topics might include: strategic planning, managing volunteers, coalition building, public relations, facilitation training, peer education & outreach, public-private partners, information management, and website development.

Girls' Education

The proposal should focus on exchanges and training for grassroots educational and community leaders who are actively involved in girls' education. Emphasis should be on providing essential tools and support to educators for classes and leadership activities. Potential topics for activities include, but are not limited to, creating & reconstructing educational opportunities, methodology & practice, the role of women & girls in society, leadership, civic responsibility, mentoring, women in history, conflict resolution, health education, and social issues. Only adult professionals or grassroots practitioners may be selected to travel internationally for exchange activities. Girls may take part as students in pilot sessions and other in-country educational activities.

Disability Issues

Projects should focus on engaging disability NGOs and institutions, individuals with disabilities, leaders in the disability community, as well as the community at-large, to improve opportunities and expand services for the disabled. Projects should seek to involve victims of civil wars and acts of terrorism. Possible themes for exchanges and training include: professional & occupational training, accessibility, entrepreneurship, community involvement, educational & extra-curricular issues, association building, leadership, dealing with mental & emotional scars, public relations, and NGO management. Projects may be designed to cover a range of topics and/or methods, or may focus more intensively on a specific area.

Women-Led Small Business Development

Projects should foster the development of local women-led businesses in the partner country and create ongoing international partnerships. Project components in the U.S. or overseas, with examples of possible topics, include: seminars for women considering micro-enterprise (e.g. entrepreneurship, management, finance and registration issues); workshops (start-up, loan packages, marketing, staff training, appropriate technology); site visits(chamber of commerce, local government, women's business association, small business resource centers); mentoring; consultancies; internships; job-shadowing; or other activities.

Grant funds may be used to establish or enhance overseas Women's Business Resource Centers, Women's Business Associations, and regularly published not-for-profit Women's Business Newsletters in the local language, or other sustainable elements. For women's business centers,ECA funding may be used on resources and development of services, but may not be used to furnish new centers. No more than $5,000 may be used to purchase computer and/or office equipment. No funds may be used for micro-credit or re-lending activities.

Foreign participants should be linked with U.S. mentors or counterparts with similar work responsibilities, in order to ensure ongoing professional interaction. In addition to activities for businesswomen, proposals should include components targeting potential entrepreneurs, single mothers and low-income working or non-working women, particularly in countries with critical social and economic challenges.

Countries eligible for Women-Led Small Business Development grants are Afghanistan, and those listed above under North Africa and the Arabian Peninsula States of the Middle East.

Selection of Participants

The proposal narrative should include a description of an open, merit-based selection process for all international exchange components and/or any other component requiring participant selection. A draft application and a sample announcement used for recruitment advertising should be included. ECA and the U.S. embassies retain the right to nominate participants and approve or reject participants recommended by the grantee institution. For exchanges to the U.S., priority must be given to foreign participants who have not previously traveled to the United States.

VISA Regulations

Foreign participants on programs sponsored by ECA are granted J-1 Exchange Visitor visas by the U.S. Embassy in the sending country. All programs must comply with J-1 visa regulations.

Project Funding

Funding available for the FY 2002 Small Grants Competition will be disbursed through grants to several organizations. Priority will be given to grant proposals with budgets ranging from $25,000 to $50,000, with funding limited at $60,000. Applicants should not submit a budget that exceeds $60,000 in costs to be paid by ECA, however the overall budget may exceed $60,000 through cost sharing by the U.S. and foreign partner organization(s), and/or other sources. Approximately $500,000 has been allotted for this competition, but may be subject to change. At least $250,000 is projected for Afghanistan, and the countries of North Africa and the Arabian Peninsula States of the Middle East. ECA expects to announce the small grants awards recipients around late May 2002.

Budget Guidelines

To assist applicants in preparing project budgets, listed below are selected sample allowable costs. Applicants should refer to the Proposal Submission Instructions for specific formatting instructions and sample line items.

(1) General Program Expenses (i.e. orientation & program-related supplies, educational materials, traveling campaigns, consultants, interpreters, room rental, etc.)

(2) Participant Program Expenses (i.e. domestic and international travel, per diem)

(3) Administrative Expenses (i.e. salaries, telephone/fax, and other direct administrative costs)

Review Process

In support of first-time applicants, the grant proposal, budget and review process has been modified for this competition. Proposals will be reviewed in two tiers. First, all proposals will be reviewed by a team of qualified staff from the Office of Citizen Exchanges and the respective Department of State regional bureaus per the established review criteria outlined in this RFGP. Second, the most competitive proposals will be forwarded to embassies overseas and to ECA panels for formal advisory review. Non-finalists will be advised at this point in the process. Please follow the instructions in this RFGP and the Proposal Submission Instructions (PSI) for guidelines. ECA will acknowledge receipt of all proposals and will review them for technical eligibility. Proposals will be deemed ineligible if they do not fully adhere to the guidelines stated herein and in the Solicitation Package. Eligible proposals will be subject to compliance with Federal and Bureau regulations and guidelines. Proposals may also be reviewed by the Office of the Legal Adviser or by other Department elements. Final funding decisions are at the discretion of the Department of State's Assistant Secretary for Educational and Cultural Affairs. Final technical authority for assistance awards (grants or cooperative agreements) resides with the ECA Grants Officer.

Review Criteria

Technically eligible applications will be competitively reviewed according to the criteria stated below. Proposals should adequately address each area of review. The criteria are not rank ordered and all carry equal weight.

1. Quality of Program Idea and Ability to Achieve Objectives: Program objectives should be clearly and precisely stated and respond to the priority topics in this announcement. The proposal should articulate the organization's ability to carry out the planned objectives, and should include an outline of the U.S. and foreign staff responsibilities, staff resumes, the organizations' mission statements, a monthly timetable, and sample schedules for program components.

2. Cost Effectiveness and Cost Sharing: Administrative costs should be kept to a minimum. Proposals should maximize cost sharing through support and in-kind contributions from the U.S. and partner organization(s).

3. Program Evaluation: Proposals must include a plan and methodology to evaluate the program's successes and challenges. The evaluation plan should show a clear link between program objectives and expected outcomes, and should include a brief description of performance indicators and measurement tools. A draft questionnaire for evaluation purposes may be attached to support the proposal.

4. Support of Diversity: Proposals should demonstrate substantive support of ECA's policy on diversity. Program content (orientation, evaluation, program sessions, resource materials, follow-on activities) and program administration (selection process, orientation, evaluation) should address diversity in a comprehensive and innovative manner. Applicants should refer to ECA's Diversity, Freedom and Democracy Guidelines on page four of the Proposal Submission Instructions (PSI).

Announcement Title and Number

All communications with ECA concerning this Request for Grant Proposals should refer to the announcement title FY02 Small Grants and reference number ECA/PE/C-02-37.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals in their program contents, to the full extent deemed feasible.

Deadline for Proposals

The U.S. Department of State, Bureau of Educational and Cultural Affairs must receive all copies by 5 p.m. Washington, DC time on Friday, March 29, 2002. Faxed documents will not be accepted at any time. The mailroom closes at 5:00 p.m.; no late submissions will be accepted. Documents postmarked by March 29, 2002, but received at a later date, will not be accepted. Each applicant must ensure that the proposals are received by the above deadline.

To Download an Application Package Via the Internet

The entire Application Package may be downloaded from ECA's Web site at http://exchanges.state.gov/education/rfgps/.

Submissions

Applicants must follow all instructions given in the Application Package. The applicant's original proposal and ten (10) copies should be sent to: U.S. Department of State, Ref.: ECA/PE/C-02-37, Program Management, ECA/EX/PM, Room 534, 301 4th Street, SW, Washington, DC 20547.

Applicants must also submit the “Executive Summary,” “Proposal Narrative” and “Budget” sections of the proposal on a 3.5″ diskette. ECA will transmit these files electronically to the Public Affairs Sections of the U.S. Embassies for review. Once the RFGP deadline has passed, Bureau staff may not discuss this competition in any way with applicants until the proposal review process has been completed.

FOR FURTHER INFORMATION, CONTACT By mail: United States Department of State, SA-44, Bureau of Educational and Cultural Affairs, Office of Citizen Exchanges (ECA/PE/C), Room 220, Washington, DC 20547, Attn: FY02 Small Grants, By phone: (202) 619-5334; By fax: (202) 619-4350, By e-mail: pmidgett@pd.state.gov.

Interested applicants may request a copy of the Application Package, which includes the RFGP and the Proposal Submission Instructions (PSI). Please specify “FY02 Small Grants” on all inquiries and correspondence. All potential applicants should read the complete announcement before sending inquiries or submitting proposals.

Notice

The terms and conditions published in this RFGP are binding and may not be modified by any Bureau representative. Explanatory information provided by the Bureau or program officers that contradicts published language will not be binding. Issuance of the RFGP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Notification

Final awards cannot be made until funds have been appropriated by Congress, allocated and committed through internal Bureau procedures.

Dated: January 28, 2002.
Patricia S. Harrison,
Assistant Secretary for Educational and Cultural Affairs, U.S. Department of State.

[FR Doc. 02-3005 Filed 2-6-02; 8:45 am]

BILLING CODE 4710-05-P